DEPARTMENT OF TRANSPORTATION

Surface Transportation Board

[STB Finance Docket No. 34322]

Canadian National Railway Company—Trackage Rights Exemption—CSX Transportation, Inc. and New York Central Lines, LLC

New York Central Lines, LLC (NYC) and CSX Transportation, Inc. (CSXT) have agreed to grant overhead trackage rights to Canadian National Railway Company (CN) over segments of the following rail lines owned by NYC and operated by CSXT: (1) NYC's Niagara Branch at CP-7 (generally between milepost 7.1+/− and milepost 7.2+/−), between the connection with CN at the easterly end of CN's International Bridge and the connection with NYC's Belt Line Branch at Buffalo (Black Rock), NY; (2) NYC's Belt Line Branch between the connection with NYC's Niagara Branch at CP-7 (milepost 7.2+/−) at Buffalo (Black Rock), NY, and NYC's Chicago Line at CP-437 (milepost 0.0+/−) at Buffalo, NY; and (3)(a) NYC's Chicago Line, between the connection with NYC's Belt Line Branch and NYC's connection with PRR's Howard Street Running Track at CP-437 at Buffalo, NY; and (b) between CP-437 at Buffalo, NY, and the connection between NYC and the South Buffalo Railway Company (SBRR) at the west end of NYC's Seneca Yard near milepost 5.0+/− of NYC's Chicago Line, via either (i)(a) Chicago Line between CP-437 and CP-2, or (b) Compromise Branch between CP-437 and CP-2, and (ii) NYC's designated Seneca Yard trackage between CP-2 and CP-5, a total of approximately 12.8 miles, depending on the route, including such NYC Seneca Yard trackage as CN shall require to reasonably interchange or conduct interchange with SBRR or Buffalo & Pittsburgh Railroad Inc. (BPRR).

The transaction was scheduled to be consummated on April 3, 2003 (7 days after the notice was filed).

The purpose of this transaction is to amend the trackage rights granted to CN in Canadian National Railway Company—Trackage Rights Exemption—New York Central Lines LLC, STB Finance Docket 33769 (STB served June 29, 1999); and Canadian National Railway Company—Trackage Rights Exemption—New York Central Lines LLC, STB Finance Docket No. 33798 (STB served Sept. 17, 1999).

The amended trackage rights will facilitate CN's interchange with BPRR and CN's interchange with the Norfolk Southern Railway Company. In addition, the amended trackage rights will allow CN to easily access its already existing trackage rights and lessen traffic on segments of the NYC's Compromise Branch Line and NYC's Chicago Line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34322, must be filed with the Surface Transportation Board, 1925 K Street, NW., Washington, DC 20423-0001. In addition, a copy of each pleading must be served on Michael J. Barron, Jr., Canadian National Railway Company, 455 North Cityfront Plaza Drive, Chicago, IL 60611-5317.

Board decisions and notices are available on our Web site at “www.stb.dot.gov.”

Decided: April 8, 2003.
By the Board, David M. Konschnik, Director, Office of Proceedings.
Vernon A. Williams,
Secretary.

[FR Doc. 03-9328 Filed 4-15-03; 8:45 am]

BILLING CODE 4915-00-P